DEPARTMENT OF TRANSPORTATION

Federal Aviation Administration

Approval of Noise Compatibility Program for Tucson International Airport, Tucson, Arizona

AGENCY: Federal Aviation Administration, DOT.

ACTION: Notice.

SUMMARY: The Federal Aviation Administration (FAA) announces its findings on the noise compatibility program submitted by the Tucson Airport Authority (TAA) under the provisions of 49 U.S.C. 47501 et seq. (formerly the Aviation Safety and Noise Abatement Act, hereinafter referred to as “the Act”) and 14 Code of Federal Regulations (CFR) Part 150 (hereinafter referred to as “Part 150”). On March 20, 2013, the FAA determined that the noise exposure maps submitted by the TAA under Part 150 were in compliance with applicable requirements. On September 9, 2013, the FAA approved the Tucson International Airport noise compatibility program. Most of the recommendations of the program were approved. No program elements relating to new or revised flight procedures for noise abatement were proposed.

DATED: Effective Date: This notice is effective October 31, 2013 and applicable September 9, 2013.

FOR FURTHER INFORMATION CONTACT: Jared Raymond, Airport Planner, FAA Phoenix Airports Field Office, 2800 North 44th Street, Phoenix, Arizona 85008, telephone number (602) 379-3022. Documents reflecting this FAA action may be reviewed at this same location.

SUPPLEMENTARY INFORMATION: This notice announces that the FAA has given its overall approval to the Noise Compatibility Program for Tucson International Airport, effective September 9, 2013. Under section 104(a) of the Aviation Safety and Noise Abatement Act of 1979, as amended (herein after referred to as the “Act”) [recodified as 49 U.S.C. 47504], an airport operator who has previously submitted a Noise Exposure Map may submit to the FAA a Noise Compatibility Program which sets forth the measures taken or proposed by the airport operator for the reduction of existing non-compatible land uses and prevention of additional non-compatible land uses within the area covered by the Noise Exposure Maps. The Act requires such programs to be developed in consultation with interested and affected parties including local communities, government agencies, airport users, and FAA personnel.

Each airport noise compatibility program developed in accordance with Federal Aviation Regulations (FAR) Part 150 is a local program, not a Federal program. The FAA does not substitute its judgment for that of the airport proprietor with respect to which measures should be recommended for action. The FAA's approval or disapproval of FAR Part 150 program recommendations is measured according to the standards expressed in Part 150 and the Act, and is limited to the following determinations:

a. The Noise Compatibility Program was developed in accordance with the provisions and procedures of FAR Part 150;

b. Program measures are reasonably consistent with achieving the goals of reducing existing non-compatible land uses around the airport and preventing the introduction of additional non-compatible land uses;

c. Program measures would not create an undue burden on interstate or foreign commerce, unjustly discriminate against types or classes of aeronautical uses, violate the terms of airport grant agreements, or intrude into areas preempted by the Federal Government; and

d. Program measures relating to the use of flight procedures can be implemented within the period covered by the program without derogating safety, adversely affecting the efficient use and management of the navigable airspace and air traffic control systems, or adversely affecting other powers and responsibilities of the Administrator prescribed by law.

Specific limitations with respect to FAA's approval of an airport noise compatibility program are delineated in FAR Part 150, section 150.5. Approval is not a determination concerning the acceptability of land uses under Federal, state, or local law. Approval does not by itself constitute an FAA implementing action. A request for Federal action or approval to implement specific noise compatibility measures may be required, and an FAA decision on the request may require an environmental assessment of the proposed action. Approval does not constitute a commitment by the FAA to financially assist in the implementation of the program nor a determination that all measures covered by the program are eligible for grant-in-aid funding from the FAA under the Airport and Airway Improvement Act of 1982, as amended. Where federal funding is sought, requests for project grants must be submitted to the FAA Airports Field Office in Phoenix, Arizona.

The TAA submitted to the FAA on November 26, 2013, the Noise Exposure Maps for evaluation. The FAA determined that the Noise Exposure Maps for Tucson International Airport were in compliance with applicable requirements on March 20, 2013. Notice of this determination was published in the Federal Register on March 29, 2013 (Volume 78/No. 61/pages 19355-19356).

The Tucson International Airport study contains a proposed noise compatibility program comprised of actions designed for phased implementation by airport management and adjacent jurisdictions. It was requested that the FAA evaluate and approve this material as a Noise Compatibility Program as described in 49 U.S.C. 47504 (formerly Section 104(b) of the Act). The FAA began its review of the program on March 20, 2013, and was required by a provision of the Act to approve or disapprove the program within 180 days (other than the use of new or modified flight procedures for noise control). Failure to approve or disapprove such program within the 180-day period shall be deemed to be an approval of such program.

The Noise Compatibility Program recommended three Noise Abatement Elements, five Land Use Planning Elements and two Program Management Elements. The FAA completed its review and determined that the procedural and substantive requirements of the Act and FAR Part 150 have been satisfied. The overall program was approved, by the Manager of the Airports Division, Western-Pacific Region, effective September 9, 2013.

Approval was granted for four Land Use Planning Elements and one Program Management Element. The approved measures include: Working with the City of Tucson to review and if necessary modify the boundaries of the Airport Environs Zone (AEZ) Overlay; work with the City of Tucson to review and if necessary modify the land use regulations within the AEZ Overlay as defined in Section 2.8.5 of the City of Tucson Land Use Code; Work with Pima County to review and if necessary modify the boundaries of the Airport Environs and facilities Overlay Zone (AEFZ); work with Pima County to review and if necessary modify the land use regulations within the AEFZ Overlay as defined in Pima County Code; and periodically review and if necessary, update the Noise Exposure Maps (NEM'S) and the Noise Compatibility Program (NCP). Approval as a voluntary measure was given for two Noise Abatement Elements and one Program Management Element. These measures include: Formalizing an agreement with the Arizona Air National Guard (AANG) to limit nighttime/early morning and weekend operations; work with the AANG to develop restrictions on ground operations, including optimal orientation of aircraft during final checks prior to departure to reduce noise impacts, and formalize and expand current public outreach programs. One Noise Abatement Element and one Land Use Planning Element was disapproved for purposes of Part 150, since they did not reduce incompatible land uses or lacked a demonstrated noise benefit to noncompatible land uses exposed to noise levels in the yearly day/night average sound level (DNL) 65 noise contours. These measures included: Study implementing an Optimized Profile Descent (OPD) procedure for one or more runway ends and to investigate opportunities to design Airport development in a manner that both reduces interior noise levels of the development and that acts as a barrier to shield neighboring communities from aircraft noise.

The FAA determinations are set forth in detail in the Record of Approval signed by the Manager of the Airports Division, Western-Pacific Region, on September 9, 2013. The Record of Approval, as well as other evaluation materials and the documents comprising the submittal, are available for review at the FAA office listed above and at the administrative offices of the Tucson International Airport. The Record of Approval also will be available on-line at: http://www.faa.gov/airports/environmental/airport_noise/part_150/states/.

Issued in Hawthorne, California, on October 23, 2013.
Brian Q. Armstrong,
Acting Manager, Airports Division, Western-Pacific Region, AWP-600.

[FR Doc. 2013-25826 Filed 10-30-13; 8:45 am]

BILLING CODE 4910-13-P